OFFICE OF PERSONNEL MANAGEMENT

Submission for Review: White House Fellows Application, 3206-0265

AGENCY: U.S. Office of Personnel Management.

ACTION: 60-Day notice and request for comments.

SUMMARY: The President's Commission on White House Fellowships, Office of Personnel Management (OPM) offers the general public and other Federal agencies the opportunity to comment on an information collection request (ICR) 3206-0265, White House Fellows Application. As required by the Paperwork Reduction Act of 1995, (Pub. L. 104-13, 44 U.S.C. chapter 35) as amended by the Clinger-Cohen Act (Pub. L. 104-106), OPM is soliciting comments for this collection.

DATES: Comments are encouraged and will be accepted until September 29, 2015. This process is conducted in accordance with 5 CFR 1320.1.

ADDRESSES: Interested persons are invited to submit written comments on the proposed information collection to the President's Commission on White House Fellowships, Office of Personnel Management, 1900 E Street NW., Washington, DC 20503, Attention: Administrative Officer or sent via electronic mail to whitehousefellows@whf.eop.gov.

FOR FURTHER INFORMATION CONTACT: A copy of this ICR, with applicable supporting documentation, may be obtained by contacting the President's Commission on White House Fellowships, Office of Personnel Management, 1900 E Street NW., Washington, DC 20503, Attention: Administrative Officer or sent via electronic mail to whitehousefellows@whf.eop.gov.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Founded in 1964 by Lyndon B. Johnson, the White House Fellows program is one of America's most prestigious programs for leadership and public service. White House Fellowships offer exceptional young men and women first-hand experience working at the highest levels of the federal government.

Selected individuals typically spend a year working as a full-time, paid Fellow to senior White House Staff, Cabinet Secretaries and other top-ranking government officials. Fellows also participate in an education program consisting of roundtable discussions with renowned leaders from the private and public sectors, and trips to study U.S. policy in action both domestically and internationally. Fellowships are awarded on a strictly non-partisan basis.

Analysis:

Agency: President's Commission on White House Fellowship, Office of Personnel Management.

Title: White House Fellows Application.

OMB Number: 3206-0265.

Frequency: Annually.

Affected Public: Members of the general public who meet eligibility requirements set forth in Executive Order 11183.

Number of Respondents: 2,000.

Estimated Time per Respondent: 20 hours.

Total Burden Hours: 40,000 hours.

U.S. Office of Personnel Management.
Beth F. Cobert,
Acting Director.

[FR Doc. 2015-18870 Filed 7-30-15; 8:45 am]

BILLING CODE 6325-47-P